DEPARTMENT OF THE INTERIOR

Bureau of Land Management

[WY-060-1320-EL, WY-060-5110-GA-CK33, WY-060-5110-GA-CK36, WY-060-5110-GA-CK35, WYW161248, WYW172585, WYW172657, WYW173360]

Notice of Availability and Notice of Hearing for the South Gillette Area Coal Draft Environmental Impact Statement That Includes Four Federal Coal Lease by Applications, Wyoming

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Environmental Impact Statement (DEIS) for the South Gillette Area Coal project that contains four Federal Coal Lease By Applications (LBAs), and by this Notice is announcing a public hearing requesting comments on the DEIS, Maximum Economic Recovery (MER), and Fair Market Value (FMV) pursuant to 43 Code of Federal Regulations (CFR) 3425.4.

DATES: To ensure comments will be considered, the BLM must receive written comments on the South Gillette Area Coal DEIS, MER, and FMV within 60 days following the date the Environmental Protection Agency publishes the Notice of Availability in the Federal Register. The public hearing will be held at 7 p.m. MST, on November 19, 2008, at the Campbell County George Amos Memorial Building, 412 South Gillette Avenue, Gillette, Wyoming.

ADDRESSES: You may submit comments by any of the following methods:

• E-mail: casper_wymail@blm.gov.

• Fax: 307-261-7587.

• Mail: Casper Field Office, Bureau of Land Management, Attn: Teresa Johnson, 2987 Prospector Drive, Casper, Wyoming 82604.

Copies of the DEIS are available at the following BLM office locations: BLM Wyoming State Office, 5353 Yellowstone Road, Cheyenne, Wyoming 82009; and BLM Casper Field Office, 2987 Prospector Lane, Casper, Wyoming 82604. The DEIS is available electronically on the following Web site: http://www.blm.gov/wy/st/en/info/NEPA/cfodocs/south_gillette.html.

FOR FURTHER INFORMATION CONTACT: Teresa Johnson or Mike Karbs at the above address, or telephone: 307-261-7600.

SUPPLEMENTARY INFORMATION: The DEIS analyzes the potential impacts for Federal Coal LBAs serialized as WYW161248, WYW172585, WYW172657, and WYW173360 and referred to as the Belle Ayr North, West Coal Creek, Caballo West, and Maysdorf II tracts, in the decertified Powder River Federal Coal Production Region, Wyoming. The BLM is considering issuing these four coal leases as a result of four applications filed between July of 2004 and September of 2006. SUPPLEMENTARY INFORMATION by application is as follows.

Belle Ayr North Coal Tract

The BLM is considering issuing a coal lease as a result of a July 6, 2004, application made by RAG Wyoming Land Company (RAG) to lease the Federal coal in the Belle Ayr North coal tract (WYW161248). RAG subsequently sold the Belle Ayr Mine and its associated interests to Foundation Coal Holdings, Inc. (Foundation). From this point forward, the applicant for the Belle Ayr North Tract will be referred to as Foundation. The Belle Ayr North LBA is located in Campbell County Wyoming, east of Hwy 59 and south of the Bishop Road/Hwy 59 intersection.

Foundation originally applied for the tract to extend the life of the existing Belle Ayr Mine in accordance with 43 CFR part 3425. The applicant estimated that the tract includes approximately 200 million tons of in-place Federal coal underlying the following lands in Campbell County, Wyoming:

T. 48 N., R. 71 W., 6th PM, Wyoming

Section 18: Lots 17, 18, 19 (W½, SE¼);

Section 19: Lots 5 through 19;

Section 20: Lots 3 (SW¼), 4 (W½, SE¼), 5, 6, 7 (S½), 9 (S½), 10 through 16;

Section 21: Lots 13, 14;

Section 28: Lots 3 through 6;

Section 29: Lots 1, 6;

T. 48 N., R.72 W., 6th PM, Wyoming

Section 24: Lots 1, 8.

Containing 1,578.74 acres, more or less.

The Belle Ayr Mine is adjacent to the LBA and has an approved mining and reclamation plan from the Land Quality Division of the Wyoming Department of Environmental Quality (DEQ) and an approved air quality permit from the Air Quality Division of the Wyoming DEQ that allows them to mine up to 45 million tons of coal per year.

West Coal Creek Coal Tract

The BLM is considering issuing a coal lease as a result of a February 10, 2006, application made by Ark Land Company (Ark) to lease the Federal coal in the West Coal Creek coal tract (WYW172585). The West Coal Creek LBA is located in Campbell County east of Hoadley Road approximately 12 miles northeast of the city of Wright, Wyoming.

Ark originally applied for the tract to extend the life of the existing Coal Creek Mine in accordance with 43 CFR part 3425. The applicant estimated that the tract includes approximately 57 million tons of recoverable Federal coal underlying the following lands in Campbell County, Wyoming:

T. 46 N., R. 70 W., 6th PM, Wyoming

Section 18: Lots 14 through 17;

Section 19: Lots 7 through 10, 15 through 18;

Section 30: Lots 5 through 20.

Containing 1,151.26 acres, more or less.

The Coal Creek Mine is adjacent to the LBA and has an approved mining and reclamation plan from the Land Quality Division of the Wyoming DEQ and an approved air quality permit from the Air Quality Division of the Wyoming DEQ that allows them to mine up to 25 million tons of coal per year.

Caballo West Coal Tract

The BLM is considering issuing a coal lease as a result of a March 15, 2006, application made by Caballo Coal Company (Caballo) to lease the Federal coal in the Caballo West coal tract (WYW172657). The Caballo West LBA is located in Campbell County Wyoming east of the Hwy 59/Bishop Road intersection.

Caballo originally applied for the tract to extend the life of the existing Caballo Mine in accordance with 43 CFR part 3425. The applicant estimated that the tract includes approximately 87.5 million tons of mineable Federal coal underlying the following lands in Campbell County, Wyoming:

T. 48 N., R. 71 W., 6th PM, Wyoming

Section 7: Lots 12, 19;

Section 8: Lot 10;

Section 17: Lots 1 through 10, 11 (N½, SE¼), 12 (NE¼), 15 (N½, SE¼), 16;

Section 18: Lot 5, 12 (NE¼);

Section 20: Lots 1, 2 (NE¼), 8 (N½, SE¼).

Containing 777.485 acres, more or less.

The Caballo Mine is adjacent to the LBA and has an approved mining and reclamation plan from the Land Quality Division of the Wyoming DEQ and an approved air quality permit from the Air Quality Division of the Wyoming DEQ that allows them to mine up to 50 million tons of coal per year.

Maysdorf II Coal Tract

The BLM is considering issuing a coal lease as a result of a September 1, 2006, application made by Cordero Mining Company (Cordero) to lease the Federal coal in the Maysdorf II coal tract (WYW173360). The Maysdorf II LBA is located in Campbell County Wyoming on the east side of Hwy 59 starting approximately 5 miles south of the Bishop Road Hwy 59 intersection. The Maysdorf II LBA has 2 separate units. The larger of the 2 units is against the west edge of the Cordero-Rojo Mine. The other unit is to the south of the Cordero-Rojo mine and to the west of the Coal Creek Mine by roughly 1 mile.

Cordero originally applied for the tract to extend the life of the existing Cordero-Rojo Mine in accordance with 43 CFR part 3425. The applicant estimated that the tract includes approximately 483 million tons of in-place Federal coal underlying the following lands in Campbell County, Wyoming:

T. 46 N., R. 71 W., 6th PM, Wyoming

Section 4: Lots 8, 9, 16, 17;

Section 5: Lots 5, 12, 13, 20;

Section 9: Lots 6 through 8;

Section 10: Lots 7 through 10;

Section 11: Lots 13 through 16;

Section 14: Lots 1 through 4;

Section 15: Lots 1 through 4;

T. 47 N., R. 71 W., 6th PM, Wyoming

Section 7: Lots 6 through 11, 14 through 19;

Section 17: Lots 1 through 15, SW¼NW¼;

Section 18: Lots 5 through 14, 19, 20;

Section 20: Lots 1, 8, 9, 16;

Section 21: Lots 4, 5, 12, 13;

Section 28: Lots 4, 5, 12, 13;

Section 29: Lots 1, 8, 9, 16;

Section 32: Lots 1, 8, 9, 16;

Section 33: Lots 4, 5, 12, 13;

T. 47 N., R. 72 W., 6th PM, Wyoming

Section 12: Lots 1 through 16;

Section 13: Lots 1 through 8.

Containing 4,653.80 acres, more or less.

The Cordero-Rojo Mine is adjacent to the LBA and has an approved mining and reclamation plan from the Land Quality Division of the Wyoming DEQ and an approved air quality permit from the Air Quality Division of the Wyoming DEQ that allows them to mine up to 65 million tons of coal per year.

The DEIS analyzes and discloses to the public direct, indirect, and cumulative environmental impacts of issuing four Federal coal leases in the Wyoming portion of the Powder River Basin. A copy of the DEIS has been sent to affected Federal, State, and local government agencies; persons and entities identified as potentially being affected by a decision to lease the Federal coal in each of the tracts; and persons who indicated to the BLM that they wished to receive a copy of the DEIS. The purpose of the public hearing is to solicit comments on the DEIS, on the proposed competitive sales of the Belle Ayr North, West Coal Creek, Caballo West, and Maysdorf II coal tracts, and on the FMV and MER of the Federal coal.

The Wyoming DEQ; the Office of Surface Mining Reclamation and Enforcement; and the Wyoming Department of Transportation are cooperating agencies in the preparation of the DEIS.

The DEIS analyzes leasing all of the South Gillette Area coal tracts as the Proposed Action. Under the Proposed Action, a competitive sale would be held and a lease issued for Federal coal contained in the tracts as applied for by each of the applicants. As part of the coal leasing process, the BLM is evaluating adding Federal coal to the tracts to avoid bypassing coal or to prompt competitive interest in unleased Federal coal in this area. The alternate tract configurations for each of the LBAs that BLM is evaluating are described and analyzed as separate alternatives in the DEIS. Under these alternatives, competitive sales would be held and leases issued for Federal coal lands included in tracts modified by the BLM. The DEIS also analyzes the alternative of rejecting the application(s) to lease Federal coal as the No Action Alternative. The Proposed Actions and alternatives for each of the LBAs being considered in the DEIS are in conformance with the Approved Resource Management Plan for Public Lands Administered by the Bureau of Land Management Buffalo Field Office (2001).

Requests to be included on the mailing list for this project and to request copies of the DEIS or notification of the comment period or hearing date, or both, may be sent in writing, by facsimile, or electronically to the addresses previously stated at the beginning of this notice. The BLM asks that those submitting comments on the DEIS make them as specific as possible with reference to page numbers and chapters of the document. Comments that contain only opinions or preferences will not receive a formal response; however, they will be considered as part of the BLM decision-making process.

Please note that comments and information submitted including names, street addresses, and e-mail addresses of respondents will be available for public review and disclosure at the above address during regular business hours (7:45 a.m. to 4:30 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Donald A. Simpson,
Acting State Director.

[FR Doc. E8-24632 Filed 10-16-08; 8:45 am]

BILLING CODE 4310-22-P